DEPARTMENT OF COMMERCE

International Trade Administration

Initiation of Antidumping and Countervailing Duty Administrative Reviews and Requests for Revocation in Part

AGENCY: Import Administration, International Trade Administration, Department of Commerce.

SUMMARY: The Department of Commerce (“the Department”) has received requests to conduct administrative reviews of various antidumping and countervailing duty orders and findings with May anniversary dates. In accordance with the Department's regulations, we are initiating those administrative reviews. The Department also received requests to revoke one antidumping duty order and one countervailing duty order in part.

DATES: Effective Date: June 30, 2010.

FOR FURTHER INFORMATION CONTACT: Sheila E. Forbes, Office of AD/CVD Operations, Customs Unit, Import Administration, International Trade Administration, U.S. Department of Commerce, 14th Street and Constitution Avenue, NW., Washington, DC 20230, telephone: (202) 482-4697.

SUPPLEMENTARY INFORMATION:

Background

The Department has received timely requests, in accordance with 19 CFR 351.213(b), for administrative reviews of various antidumping and countervailing duty orders and findings with May anniversary dates. The Department also received requests to revoke in part the antidumping duty order on Ball Bearings and Parts Thereof from Japan for two exporters and the countervailing duty order on Stainless Steel Plate in Coils from Belgium for one exporter.

Notice of No Sales

Under 19 CFR 351.213(d)(3), the Department may rescind a review where there are no exports, sales, or entries of subject merchandise during the respective period of review (“POR”) listed below. If a producer or exporter named in this initiation notice had no exports, sales, or entries during the POR, it must notify the Department within 60 days of publication of this notice in the Federal Register. The Department will consider rescinding the review only if the producer or exporter, as appropriate, submits a properly filed and timely statement certifying that it had no exports, sales, or entries of subject merchandise during the POR. All submissions must be made in accordance with 19 CFR 351.303 and are subject to verification in accordance with section 782(i) of the Tariff Act of 1930, as amended (“the Act”). Six copies of the submission should be submitted to the Assistant Secretary for Import Administration, International Trade Administration, Room 1870, U.S. Department of Commerce, 14th Street and Constitution Avenue, NW., Washington, DC 20230. Further, in accordance with 19 CFR 351.303(f)(1)(i), a copy of each request must be served on every party on the Department's service list.

Respondent Selection

In the event the Department limits the number of respondents for individual examination for administrative reviews, the Department intends to select respondents based on U.S. Customs and Border Protection (“CBP”) data for U.S. imports during the POR. We intend to release the CBP data under Administrative Protective Order (“APO”) to all parties having an APO within five days of publication of this initiation notice and to make our decision regarding respondent selection within 20 days of publication of this Federal Register notice. The Department invites comments regarding the CBP data and respondent selection within 10 calendar days of publication of this Federal Register notice.

Separate Rates

In proceedings involving non-market economy (“NME”) countries, the Department begins with a rebuttable presumption that all companies within the country are subject to government control and, thus, should be assigned a single antidumping duty deposit rate. It is the Department's policy to assign all exporters of merchandise subject to an administrative review in an NME country this single rate unless an exporter can demonstrate that it is sufficiently independent so as to be entitled to a separate rate.

To establish whether a firm is sufficiently independent from government control of its export activities to be entitled to a separate rate, the Department analyzes each entity exporting the subject merchandise under a test arising from the Final Determination of Sales at Less Than Fair Value: Sparklers from the People's Republic of China, 56 FR 20588 (May 6, 1991), as amplified by Final Determination of Sales at Less Than Fair Value: Silicon Carbide from the People's Republic of China, 59 FR 22585 (May 2, 1994). In accordance with the separate-rates criteria, the Department assigns separate rates to companies in NME cases only if respondents can demonstrate the absence of both de jure and de facto government control over export activities.

All firms listed below that wish to qualify for separate-rate status in the administrative reviews involving NME countries must complete, as appropriate, either a separate-rate application or certification, as described below. For these administrative reviews, in order to demonstrate separate-rate eligibility, the Department requires entities for whom a review was requested, that were assigned a separate rate in the most recent segment of this proceeding in which they participated, to certify that they continue to meet the criteria for obtaining a separate rate. The Separate Rate Certification form will be available on the Department's Web site at http://www.trade.gov/ia on the date of publication of this Federal Register notice. In responding to the certification, please follow the “Instructions for Filing the Certification” in the Separate Rate Certification. Separate Rate Certifications are due to the Department no later than 60 calendar days after publication of this Federal Register notice. The deadline and requirement for submitting a Certification applies equally to NME-owned firms, wholly foreign-owned firms, and foreign sellers who purchase and export subject merchandise to the United States.

Entities that currently do not have a separate rate from a completed segment of the proceeding ¹ should timely file a Separate Rate Application to demonstrate eligibility for a separate rate in this proceeding. In addition, companies that received a separate rate in a completed segment of the proceeding that have subsequently made changes, including, but not limited to, changes to corporate structure, acquisitions of new companies or facilities, or changes to their official company name,² should timely file a Separate Rate Application to demonstrate eligibility for a separate rate in this proceeding. The Separate Rate Application will be available on the Department's Web site at http://www.trade.gov/ia on the date of publication of this Federal Register notice. In responding to the Separate Rate Application, refer to the instructions contained in the application. Separate Rate Applications are due to the Department no later than 60 calendar days of publication of this Federal Register notice. The deadline and requirement for submitting a Separate Rate Application applies equally to NME-owned firms, wholly foreign-owned firms, and foreign sellers that purchase and export subject merchandise to the United States.

¹ Such entities include entities that have not participated in the proceeding, entities that were preliminarily granted a separate rate in any currently incomplete segment of the proceeding (e.g., an ongoing administrative review, new shipper review, etc.) and entities that lost their separate rate in the most recently complete segment of the proceeding in which they participated.

² Only changes to the official company name, rather than trade names, need to be addressed via a Separate Rate Application. Information regarding new trade names may be submitted via a Separate Rate Certification.

For exporters and producers who submit a separate-rate status application or certification and subsequently are selected as mandatory respondents, these exporters and producers will no longer be eligible for separate rate status unless they respond to all parts of the questionnaire as mandatory respondents.

Initiation of Reviews

In accordance with 19 CFR 351.221(c)(1)(i), we are initiating administrative reviews of the following antidumping and countervailing duty orders and findings. We intend to issue the final results of these reviews not later than May 31, 2011.

| Period to be reviewed
Antidumping Duty Proceedings
Belgium: Stainless Steel Plate in Coils, A-423-808 | 5/1/09-4/30/10
ArcelorMittal Stainless Belgium N.V. |
Canada: Citric Acid and Certain Citrate Salts, A-122-853 | 11/20/08-5/19/09
Jungbunzlauer Canada Inc. | 5/29/09-4/30/10
France: Ball Bearings and Parts Thereof, A-427-201 | 5/1/09-4/30/10
Alcatel Vacuum Technology |
Audi AG |
AVIAC |
Avio (formerly known as FiatAvio) |
Bosch Rexroth SAS |
Caterpillar Group Services S.A. |
Caterpillar Materials Routiers S.A.S. |
Caterpillar S.A.R.L. |
Dassault Aviation |
Edwards Ltd. and Edwards High Vacuum Int'l Ltd. |
Eurocopter SAS |
Groupe Intertechnique |
Kongskilde Limited |
Microturbo SAS |
Perkins Engines Company Limited |
Pratt & Whitney |
Ringball Corporation |
SKF France, S.A./SKF Aerospace France S.A.S. |
SNECMA |
SNR Roulements S.A./SNR Europe |
Technofan |
Turbomeca S.A. |
Volkswagen AG |
Volkswagen Zubehor GmbH |
Germany: Ball Bearings and Parts Thereof, A-428-201 | 5/1/09-4/30/10
Audi AG |
Avio (formerly known as FiatAvio) |
BAUER Maschinen GmbH |
Bosch Rexroth AG |
BSH Bosch und Siemens Hausgerate GmbH |
Caterpillar S.A.R.L. |
Cerobear GmbH |
Edwards Ltd. and Edwards High Vacuum Int'l Ltd. |
Fitchel & Sachs AG |
Heidelberger Druckmaschinen AG |
Kongskilde Limited |
myonic GmbH |
Neuweg Fertigung GmbH |
Pratt & Whitney |
Ringball Corporation |
Robert Bosch GmbH |
Robert Bosch GmbH Power Tools and Hagglunds Drives |
RWG Frankenjura-Industrie Flugwerklager GmbH |
Schaeffler KG |
Schaeffler Technologies GmbH |
SKF GmbH |
SNR Walzlager GmbH |
The Schaeffler Group |
Volkswagen AG |
Volkswagen Zubehor GmbH |
W&H Dentalwerk Burmoos GmbH |
India: Certain Welded Carbon Steel Standard Pipes and Tubes, A-533-502 | 5/1/09-4/30/10
Lloyds Group and all affiliates |
Lloyds Metals & Engineers Ltd. |
Lloyds Steel Industries Ltd. |
Ushdev International Ltd. |
Italy: Ball Bearings and Parts Thereof, A-475-201 | 5/1/09-4/30/10
Audi AG |
Avio, S.p.A. (formerly known as FiatAvio) |
Bosch Rexroth S.p.A. |
Caterpillar Overseas S.A.R.L. |
Caterpillar of Australia Pty. Ltd. |
Caterpillar Group Services S.A. |
Caterpillar Mexico, S.A. de C.V. |
Caterpillar Americas C.V. |
Eurocopter |
Hagglunds Drives S.r.l. |
Kongskilde Limited |
Meter S.p.A. |
Perkins Engines Company Ltd. |
Ringball Corporation |
The Schaeffler Group |
Schaeffler Italia s.r.l, and WPB Water Pump Bearing GmbH & Co. KG |
SKF Industrie S.p.A., and Somecat S.p.A. |
SKF RIV-SKF Officine di Villar Perosa S.p.A. |
SNECMA |
Volkswagen AG |
Volkswagen Zubehor GmbH |
Japan: Ball Bearings and Parts Thereof, A-588-201 | 5/1/09-4/30/10
Asahi Seiko Co., Ltd. |
Aisin Seiki Co. Ltd. |
Audi AG |
Avio (formerly known as Fiat Avio) |
Bosch Corporation |
Bosch Packaging Technology K.K. |
Bosch Rexroth Corporation |
Canon Inc. |
Caterpillar Japan Ltd. |
Caterpillar Overseas S.A.R.L. |
Caterpillar Group Services S.A. |
Caterpillar Brazil Ltd. |
Caterpillar Africa Pty. Ltd. |
Caterpillar of Australia Pty. Ltd. |
Caterpillar S.A.R.L. |
Caterpillar Americas Mexico, S. de R.L. de C.V. |
Caterpillar Logistics Services China Ltd. |
Caterpillar Mexico, S.A. de C.V. |
Fukuyama Shoji Co., Ltd. |
Hagglunds Ltd. |
Hino Motors Ltd. |
IKO Nippon Thompson Co., Ltd. (formerly known as Nippon Thompson Co., Ltd.) |
Inoue Jukuuke Kogyo Co., Ltd. |
Izumoto Seiko Co., Ltd. |
JTEKT Corporation (formerly known as Koyo Seiko Co., Ltd.) |
Kongskilde Limited |
Makino Milling Machine Company |
Mazda Motor Corporation |
Mori Seiki Co., Ltd. |
Nachi-Fujikoshi Corporation |
Nankai Seiko Co., Ltd. |
Nippon Pillow Block Co., Ltd. |
Nippon Pillow Block Sales Co. |
Nissan Motor Company, Ltd. |
NSK Ltd. |
NTN Corporation |
NTN Kongo Corporation |
Osaka Pump Co., Ltd. |
Perkins Engines Company Limited |
Sapporo Precision, Inc., and Tokyo Precision, Inc. |
Takeshita Seiko Co., Ltd. |
Tsubakimoto Precision Products Co., Ltd. |
Univance Corp. |
Volkswagen AG |
Volkswagen Zubehor GmbH |
Yamazaki Mazak Trading Corporation |
Republic of Korea: Certain Polyester Staple Fiber, A-580-839 | 5/1/09-4/30/10
Huvis Corporation |
Woongjin Chemical Company, Ltd. |
Taiwan: Certain Circular Welded Carbon Steel Pipes and Tubes, A-583-008 | 5/1/09-4/30/10
Yieh Phui Enterprise Co., Ltd. |
Yieh Hsing Enterprise Co., Ltd. |
Taiwan: Polyester Staple Fiber, A-583-833 | 5/1/09-4/30/10
Far Eastern Textiles Ltd. (aka & dba Far Eastern New Century Corporation) |
Nan Ya Plastics Corporation |
The People's Republic of China: Citric Acid and Certain Citrate Salts ³, A-570-937 | 11/20/08-5/19/09
Anhui BBCA Biochemical Co., Ltd. | 5/29/09-4/30/10
Anhui BBCA International Co., Ltd. |
Anhui Worldbest Bio-Pharmaceutical Co., Ltd. |
Laiwu Taihe Biochemistry Co., Ltd. |
Pioneers Pharmavet S.L. |
RZBC Co., Ltd./RZBC Imp. & Exp. Co., Ltd./RZBC (Juxian) Co., Ltd. |
Shanghai Worldbest Group Company |
Shanghai Worldbest Co., Ltd. |
Shanghai Worldbest Anhui |
Thai Worldbest Biochemical Co., Ltd. |
Worldbest Biochemicals (Thailand) Co., Ltd. |
Yixing Union Biochemical Co., Ltd. |
The People's Republic of China: Pure Magnesium ⁴, A-570-832 | 5/1/09-4/30/10
Tianjin Magnesium International, Ltd. |
Certain Activated Carbon,5 6 7 A-570-904 | 4/1/09-3/31/10
Datong Kangda Activated Carbon Factory |
Datong Runmei Activated Carbon Factory |
Fangyuan Carbonization Co., Ltd. |
Xingtai Coal Chemical Co., Ltd. |
Yuyang Activated Carbon Co., Ltd. |
Turkey: Certain Welded Carbon Steel Pipe and Tube, A-489-501 | 5/1/09-4/30/10
Borusan Group |
Borusan Mannesmann Boru Sanayi ve Ticaret A.S. |
Borusan Birlesik Boru Fabrikalari San ve Tic. |
Borusan Istikbal Ticaret T.A.S. |
Boruson Holding A.S. |
Boruson Gemlik Boru Tesisleri A.S. |
Borusan Ihracat Ithalat ve Dagitim A.S. |
Borusan Ithicat ve Dagitim A.S. |
Tubeco Pipe and Steel Corporation |
Toscelik Profil ve Sac Endustrisi A.S. |
Toscelik Metal Ticaret A.S. |
Tosyali Dis Ticaret A.S. |
Light-Walled Rectangular Pipe and Tube, A-489-815 | 5/1/09-4/30/10
Noksel Celik Boru Sanayi A.S. |
United Kingdom: Ball Bearings and Parts Thereof, A-412-201 | 5/1/09-4/30/10
Alcatel Vacuum Technology |
Bosch Rexroth Limited |
Caterpillar S.A.R.L. |
Caterpillar Group Services S.A. |
Caterpillar of Australia Pty Ltd. |
Caterpillar Overseas S.A.R.L. |
Caterpillar Marine Power UK |
The Schaeffler Group |
The Barden Corporation (U.K.) Limited and Schaeffler (U.K.) Limited |
NSK Bearings Europe Ltd. |
Perkins Engines Company Ltd. |
Pratt & Whitney |
Rolls-Royce PLC |
SKF (U.K.) Limited |
SKF Aeroengine Bearings U.K. (formerly known as SNFA UK) |
SNR UK |
Countervailing Duty Proceedings
Belgium: Stainless Steel Plate in Coils, C-423-809 | 1/1/09—12/31/09
ArcelorMittal Stainless Belgium N.V. |
The People's Republic of China: Citric Acid and Certain Citrate Salts, C-570-938 | 9/19/08-12/31/09
A.H.A. International Co., Ltd. |
Changsha Huari Bio Pharmaceutical Co., Ltd. |
Changsha Huayang Chemical Co., Ltd. |
China North Industry Guangzhou Corporation |
Feiyu Fine Chemical |
Gansu Xuejing Biochemical Co., Ltd. |
Great Vision International |
Hai Hui Group Co., Ltd. |
High Hope International Group Jiangsu Native Produce Import & Export Co., Ltd. |
Huangshi Xinghua Biochemical Co., Ltd. |
Hunan Dongting Citric Acid Chemicals Co., Ltd. |
Hunan Yinhai Petrochemicals Group Co., Ltd. |
Jiali Bio Group (Qingdao) Limited |
Jiangsu Gadot Nuobei Biochemical |
Jiangsu Nuobei Biochemical Co., Ltd. |
Juxian Hongde Citric Acid Co., Ltd. |
Kelong International Co., Ltd. |
Laiwu Taihe Biochemistry Co. Ltd. |
Lianyungang Best Biochemical Technology Co. Ltd. |
Lianyungang Famous Chemical, Ltd. |
Lianyungang JF International Trade Co., Ltd. |
Lianyungang Nuobei Biochemical Technology Co., Ltd. |
Lianyungang Reliance |
Lianyungang Samin Food Additives Co., Ltd. |
Lianyungang Shuren Scientific Creation Import & Export Co., Ltd. |
Linyi Bangtai Industry (Group) Co., Ltd. |
Nantong Apac Best Biochemical Corp. |
Nantong Huaze Chemical Co., Ltd. |
Nantong Jiangei Additive |
Penglai Marine Bio-Technology Co., Ltd. |
Qingdao Fuso Refining and Processing Co., Ltd. |
Qinhuangdao Sinochem Import & Export Co., Ltd. |
Roche Zhongya (Wuxi) Citric Acid, Ltd. |
Rugao Jinling Chemical Co., Ltd. |
RZBC Co., Ltd./RZBC Import & Export Co., Ltd. and RZBC (Juxian) Co., Ltd. |
Shanxi Shunyi Co., Ltd. |
Shandong Hongshide Chemical Industry Co., Ltd. |
Shandong Laiwu Gangcheng Group |
Shandong Ningmeng Biochemistry Co., Ltd. |
Shandong Yingfeng Chemical Industry Group Co., Ltd. |
Shanghai Henglijie Bio-Tech Co., Ltd. |
Shanghai Fenhe Biochemical Co., Ltd. |
Shanxi Rui Cheng Yellow River Industry, Ltd. |
Shihezi City Changyun Biochemical Co., Ltd. |
Sinochem Corporation |
Sinochem Hebei Import & Export Co. |
Sinochem Lianyungang Import & Export Co. |
Sinochem Tianjin Import & Export Co. |
Suntran Industrial Group, Ltd. |
Tianyu Chemical Co., Ltd. |
The TNN Development Limited |
TTCA Co., Ltd. |
Weifang Ensign Industry Co., Ltd. |
Weifang Huiyuan Industry Co., Ltd. |
Wuhan Shuangfeng Citric Acid Co., Ltd. |
Yixing Union Biochemical Co., Ltd.; and Yixing Union Cogeneration Co., Ltd. |

Suspension Agreements

³ If one of the above-named companies does not qualify for a separate rate, all other exporters of Citric Acid and Certain Citrate Salts from the People's Republic of China (“PRC”) who have not qualified for a separate rate are deemed to be covered by this review as part of the single PRC entity of which the named exporters are a part.

⁴ If the above-named company does not qualify for a separate rate, all other exporters of Pure Magnesium from the PRC who have not qualified for a separate rate are deemed to be covered by this review as part of the single PRC entity of which the named exporters are a part.

⁵ If one of the above named companies does not qualify for a separate rate, all other exporters of Certain Activated Carbon from the PRC who have not qualified for a separate rate are deemed to be covered by this review as part of the single PRC entity of which the named exporters are a part.

⁶ Petitioners, Calgon Carbon Corporation and Norit Americans Inc., also requested a review of ten additional companies, but were unable to provide addresses for these companies. The Department finds that Petitioners did not demonstrate that they made a reasonable attempt to serve these companies with the request for review as required by 19 CFR 351.303(f)(3)(ii), nor did they explain satisfactorily why they desire a review of these companies, as required by 19 CFR 351.213(b)(1). Therefore, we are not initiating a review with respect to the following companies: Actview Carbon Technology Co., Ltd.; Alashan Yongtai Activated Carbon Co., Ltd.; Beijing Huapeng Environment Protection Materials; Huaxin Active Carbon Plant; Jilin Goodwill Activated Carbon Plant; Kaihua Xinghua Chemical Plant; Xinyuan Carbon; Yinyuan Carbon; YunGuan Chemical Factory; andYuanguang Activated Carbon Co., Ltd.

⁷ We intend to issue the final results of these reviews not later than April 30, 2011. These five companies are in addition to the companies initiated upon on May 28, 2010. See Initiation of Antidumping and Countervailing Duty Administrative Reviews, 75 FR 29976, at footnote 5 (May 28, 2010). Petitioners provided addresses for these five companies in their submission dated May 24, 2010.

None.

During any administrative review covering all or part of a period falling between the first and second or third and fourth anniversary of the publication of an antidumping duty order under 19 CFR 351.211 or a determination under 19 CFR 351.218(f)(4) to continue an order or suspended investigation (after sunset review), the Secretary, if requested by a domestic interested party within 30 days of the date of publication of the notice of initiation of the review, will determine, consistent with FAG Italia v. United States, 291 F.3d 806 (Fed. Cir. 2002), as appropriate, whether antidumping duties have been absorbed by an exporter or producer subject to the review if the subject merchandise is sold in the United States through an importer that is affiliated with such exporter or producer. The request must include the name(s) of the exporter or producer for which the inquiry is requested.

For the first administrative review of any order, there will be no assessment of antidumping or countervailing duties on entries of subject merchandise entered, or withdrawn from warehouse, for consumption during the relevant provisional-measures “gap” period, of the order, if such a gap period is applicable to the POR.

Interested parties must submit applications for disclosure under administrative protective orders in accordance with 19 CFR 351.305. On January 22, 2008, the Department published Antidumping and Countervailing Duty Proceedings: Documents Submission Procedures; APO Procedures (73 FR 3634). Those procedures apply to administrative reviews included in this notice of initiation. Parties wishing to participate in any of these administrative reviews should ensure that they meet the requirements of these procedures (e.g., the filing of separate letters of appearance as discussed at 19 CFR 351.103(d)).

These initiations and this notice are in accordance with section 751(a) of the Act (19 USC 1675(a)), and 19 CFR 351.221(c)(1)(i).

Dated: June 24, 2010.
John M. Andersen,
Acting Deputy Assistant Secretary for Antidumping and Countervailing Duty Operations.

[FR Doc. 2010-15955 Filed 6-29-10; 8:45 am]

BILLING CODE 3510-DS-P